DEPARTMENT OF HEALTH AND HUMAN SERVICES

Centers for Medicare & Medicaid Services

[CMS-1275-N]

Medicare Program; Meeting of the Advisory Panel on Ambulatory Payment Classification Groups—September 1, 2, and 3, 2004

AGENCY: Centers for Medicare & Medicaid Services (CMS), Department of Health and Human Services (DHHS).

ACTION: Notice of meeting.

SUMMARY: In accordance with section 10(a) of the Federal Advisory Committee Act (FACA)(5 U.S.C. Appendix 2), this notice announces the second biannual meeting of the Advisory Panel on Ambulatory Payment Classification (APC) Groups (the Panel) for 2004.

The purpose of the Panel is to review the APC groups and their associated weights and to advise the Secretary, DHHS, (the Secretary) and the Administrator, CMS, (the Administrator) concerning the clinical integrity of the APC groups and their associated weights. The Secretary and the Administrator consider the Panel's advice as CMS prepares its annual updates of the hospital Outpatient Prospective Payment System (OPPS) through rulemaking.

DATES: The second biannual meeting for 2004 is scheduled for the following dates and times: Wednesday, September 1, 2004, 1 p.m.-5 p.m. (e.d.t.); Thursday, September 2, 2004, 8 a.m.-5 p.m. (e.d.t.); Friday, September 3, 2004, 8 a.m.-12 noon (e.d.t.).

Deadlines:

Deadline for Hardcopy and Electronic Comments or Suggested Agenda Topics—

• 5 p.m. (e.d.t.), Wednesday, August 18, 2004.

Deadline for Hardcopy and Electronic Presentations—

• 5 p.m. (e.d.t.), Wednesday, August 18, 2004.

Deadline for Attendance Registration—

• 5 p.m. (e.d.t.), Monday, August 23, 2004.

Deadline for Special Accommodations—

• 5 p.m. (e.d.t.), Monday, August 23, 2004.

Submittal of Materials to the Designated Federal Officer (DFO)

Because of staffing and resource limitations, we cannot accept written comments/presentations by facsimile (FAX), nor can we print written comments/presentations received electronically for dissemination at the meeting.

Only hardcopy comments and presentations will be accepted for placement in the meeting booklets.

We are also requiring electronic versions of the written comments and presentations (in addition to the hardcopies) for the Panel's review prior to the meeting.

Therefore, you must send BOTH electronic and hardcopy versions of your presentations and written comments by the prescribed deadlines. (Electronic transmission must be sent to the e-mail address, and hardcopies must be mailed to the DFO, as shown below.)

ADDRESSES: The meeting will be held in the Multipurpose Room, 1st Floor, at the CMS Central Office, 7500 Security Boulevard, Baltimore, Maryland 21244-1850.

FOR FURTHER INFORMATION CONTACT: For inquiries regarding the meeting; meeting registration; and hardcopy submissions of oral presentations, agenda items, and comments, please use the following:

Mailing Address: Shirl Ackerman-Ross, DFO, CMS, CMM, HAPG, DOC, 7500 Security Boulevard, Mail Stop C4-05-17, Baltimore, MD 21244-1850. Phone number—(410) 786-4474. E-mail address—APCPanel@cms.hhs.gov. Public Affairs Office Phone Number—(202) 690-6145.

News media representatives should contact our Public Affairs Office at this phone number.

Advisory Committees' Information Lines: The CMS Advisory Committees' Information Line is 1-877-449-5659 (toll free) and (410) 786-9379 (local).

Web Sites: For additional information on the APC meeting agenda topics and/or updates to the Panel's activities, please search our Internet Web site at: http://www.cms.hhs.gov/faca/apc/default.asp.

To obtain Charter copies, search our Internet Web site at http://www.cms.hhs.gov/faca, or e-mail the DFO at: APCPanel@cms.hhs.gov.

SUPPLEMENTARY INFORMATION:

I. Background

The Secretary, DHHS, is required by section 1833(t)(9)(A) of the Social Security Act (the Act), as amended by section 201(h)(1)(B) and redesignated by section 202(a)(2) of the Medicare, Medicaid, and SCHIP Balanced Budget Refinement Act (BBRA) of 1999 (Pub. L. 106-113), to establish and consult with an expert, outside advisory panel on APC groups. The Panel meets up to three times annually to review the APC groups and to provide technical advice to the Secretary and the Administrator concerning the clinical integrity of the groups and their associated weights. We will consider the technical advice provided by the Panel as we prepare the proposed rule that proposes changes to the OPPS for the next calendar year.

The Panel may consist of up to 15 representatives who are full-time employees (not consultants) of Medicare providers, which are subject to the OPPS, and a Chair/Acting Chair. Panel members must have technical expertise that will enable them to fully participate in the Panel's work. The Administrator selected the Panel membership based upon either self-nominations or nominations submitted by providers or interested organizations. The Panel presently consists of the following members and an Acting Chair: Edith Hambrick, M.D., J.D.; Acting Chair, Marilyn Bedell, M.S., R.N., O.C.N.; Albert Brooks Einstein, Jr., M.D.; Robert E. Henkin, M.D.; Lee H. Hilborne, M.D., M.P.H. Stephen T. House, M.D.; Kathleen Kinslow, C.R.N.A., Ed.D.; Mike Metro, R.N., B.S.; Sandra J. Metzler, M.B.A., R.H.I.A., C.P.H.Q.*; Gerald V. Naccarelli, M.D.; Frank G. Opelka, M.D., F.A.C.S.; Beverly K. Philip, M.D.; Lou Ann Schraffenberger, M.B.A., R.H.I.A., C.C.S.-P*; Lynn R. Tomascik, R.N., M.S.N., C.N.A.A.; Timothy Gene Tyler, Pharm.D.; William Van Decker, M.D. (*New member as of April 1, 2004).

II. Agenda

The agenda for the September 2004 meeting will provide for discussion and comment on the following topics as designated in the Panel's Charter:

• Reconfiguration of APCs (for example, splitting of APCs, moving Healthcare Common Procedure Coding System HCPCS) codes from one APC to another and moving HCPCS codes from new technology APCs to clinical APCs).

• Evaluation of APC weights.

• Packaging devices and drug costs into APCs: methodology, effect on APCs, and need for reconfiguring APCs based upon device and drug packaging.

• Removal of procedures from the inpatient list for payment under the OPPS.

• Use of single and multiple procedure claims data.

• Packaging of HCPCS codes.

• Other technical issues concerning APC structure.

III. Written Comments and Suggested Agenda Topics

The DFO must receive the electronic and hardcopy written comments and suggested agenda topics by 5 p.m. (e.d.t.), Wednesday, August 18, 2004.

Additionally, the written comments and suggested agenda topics must fall within the subject categories listed above that are outlined in the Panel's Charter.

IV. Oral Presentations

Individuals or organizations wishing to make 5-minute oral presentations must contact the DFO. The DFO must receive the electronic and hardcopy presentations by 5 p.m. (e.d.t.), on Wednesday, August 18, 2004, in order to be scheduled.

The number of oral presentations may be limited by the time available. Oral presentations must not exceed 5 minutes in length.

The Acting Chair may further limit time allowed for presentations due to the number of oral presentations scheduled, if necessary.

V. Presenter and Presentation Criteria

The additional criteria below must be supplied to the DFO by the August 18 deadline (along with hardcopies of presentations).

• Required personal information regarding presenter(s):

• Name of presenter(s),

• Title(s),

• Organizational affiliation,

• Address,

• E-mail address, and

• Telephone number(s).

All presentations must contain, at a minimum, the following supporting information and data:

• Financial relationship(s) of presenter(s), if any, with any company whose products, services, or procedures that are under consideration;

• Physicians' Current Procedural Terminology (CPT) codes involved;

• APC(s) affected;

• Description of the issue(s);

• Clinical description of the service under discussion (with comparison to other services within the APC);

• Recommendations and rationale for change;

• Expected outcome of change; and

• Potential consequences of not making the change(s).

Form CMS-20017, Presenter/Presentation Information Checklist.

To assist presenters in meeting the above criteria, Form CMS-20017, which identifies the specific standard for Panel presentations, can be found on our Internet Web site at: http://www.cms.hhs.gov/forms/cms20017.pdf.

VI. Oral Comments

In addition to formal oral presentations, there will be opportunity during the meeting for public oral comments that will be limited to 1 minute for each individual and a total of 5 minutes per organization.

VII. Meeting Attendance

The meeting is open to the public; however, attendance is limited to space available. Attendance will be determined on a first-come, first-served basis.

Persons wishing to attend this meeting, which is located on Federal property, must call or e-mail the Panel DFO to register in advance no later than 5 p.m. (e.d.t.), Monday, August 23, 2004.

The following information must be e-mailed or telephoned to the DFO by the date and time above:

• Name(s) of attendee(s),

• Title(s),

• Organization,

• E-mail address(es), and

• Telephone number(s).

VIII. Security, Building, and Parking Guidelines

Persons attending the meeting must present photographic identification to the Federal Protective Service or Guard Service personnel before they will be allowed to enter the building.

Individuals who are not registered in advance will not be permitted to enter the building, and will be unable to attend the meeting. The public may not enter the Central Office (CO) complex earlier than 30 to 45 minutes prior to when the meeting convenes each day. For example, entrance into CO on Day 1 (Wednesday, September 1) would not be until 12:15 p.m., at the earliest, for the 1 p.m. meeting. Likewise, entrance into CO on Days 2 and 3 would not be until 7:15 a.m., at the earliest, for the 8 a.m. meetings.

All visitors must be escorted in areas other than the lower-lobby and first floor levels in CO building.

Parking permits and instructions are issued upon arrival by the guards at the main entrance on Security Boulevard.

IX. Special Accommodations

Individuals requiring sign-language interpretation or other special accommodations must send a request for these services to the DFO by 5 p.m. (e.d.t.), Monday, August 23, 2004.

Authority: Section 1833(t) of the Act (42 U.S.C. 1395l(t), as amended by section 201(h) of the BBRA of 1999 (Pub. L. 106-113). The Panel is governed by the provisions of Pub. L. 92-463, as amended (5 U.S.C. Appendix 2).

(Catalog of Federal Domestic Assistance Program No. 93.773, Medicare—Hospital Insurance; and Program No. 93.774, Medicare—Supplementary Medical Insurance Program.)
Dated: July 8, 2004.
Mark B. McClellan,
Administrator, Centers for Medicare & Medicaid Services.

[FR Doc. 04-17992 Filed 8-4-04; 8:45 am]

BILLING CODE 4120-01-P